NUCLEAR REGULATORY COMMISSION

[NRC-2009-0267; Docket No. 50-289]

Exelon Generation Company, LLC; Three Mile Island Nuclear Station, Unit 1; Notice of Availability of the Final Supplement 37 to the Generic Environmental Impact Statement for License Renewal of Nuclear Plants, Regarding the License Renewal of Three Mile Island Nuclear Station, Unit 1

Notice is hereby given that the U.S. Nuclear Regulatory Commission (NRC or Commission) has published a final plant-specific supplement to the “Generic Environmental Impact Statement for License Renewal of Nuclear Plants” (GEIS), NUREG-1437, regarding the renewal of operating license DPR-50 for an additional 20 years of operation for Three Mile Island Nuclear Station, Unit 1 (TMI-1). TMI-1 is located in Londonderry Township in Dauphin County, Pennsylvania, on the northern end of Three Mile Island near the eastern shore of the Susquehanna River. Possible alternatives to the proposed action (license renewal) include no action and reasonable alternative energy sources.

As discussed in Section 9.4 of the final Supplement 37, based on: (1) The analysis and findings in the GEIS; (2) the Environmental Report submitted by Exelon Generation Company, LLC; (3) consultation with Federal, State, and local agencies; (4) the NRC staff's own independent review; and (5) the NRC staff's consideration of public comments, the NRC determined that the adverse environmental impacts of license renewal for TMI-1 are not so great that preserving the option of license renewal for energy-planning decisionmakers would be unreasonable.

The final Supplement 37 to the GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The accession number for the final Supplement 37 to the GEIS is ML091751063. Persons who do not have access to ADAMS, or who encounter problems in accessing the documents located in ADAMS, should contact the NRC's PDR reference staff by telephone at 1-800-397-4209, or 301-415-4737, or by e-mail at pdr.resource@nrc.gov. In addition, the following three locations have agreed to make the final supplement to the GEIS available for public inspection: Londonderry Township Municipal Building, 783 South Geyers Church Road, Middletown, PA 17057; Middletown Public Library, 20 North Catherine Street, Middletown, PA 17057; and Penn State Harrisburg Library, 351 Olmsted Drive, Middletown, PA 17057.

For Further Information Contact:Ms. Sarah Lopas, Projects Branch 1, Division of License Renewal, Office of Nuclear Reactor Regulation, U.S. Nuclear Regulatory Commission, Mail Stop O-11F1, Washington, DC 20555-0001. Ms. Lopas may be contacted by telephone at 1-800-368-5642, extension 1147 or via e-mail at Sarah.Lopas@nrc.gov.

Dated at Rockville, Maryland, this 25th day of June 2009.
For the Nuclear Regulatory Commission.
David L. Pelton,
Chief, Projects Branch 1, Division of License Renewal, Office of Nuclear Reactor Regulation.

[FR Doc. E9-15637 Filed 7-1-09; 8:45 am]

BILLING CODE 7590-01-P